DEPARTMENT OF HEALTH AND HUMAN SERVICES

Office of Inspector General

Program Exclusions: December 1999

AGENCY: Office of Inspector General, HHS.

ACTION: Notice of program exclusions.

During the month of December 1999, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS:
ARIAS, MIGUEL DEPAULA, MIAMI, FL | 01/19/2000
ASENCIO, MARIO, MIAMI, FL | 01/19/2000
BAKER, ROBERT L, ST ROBERTS, MO | 01/19/2000
BUNNA, JASON, SOLEDAD, CA | 01/19/2000
DUPUY, SIDNEY J III, BREAUX BRIDGE, LA | 01/19/2000
DUZAN, ROBIN, SOUTH SHORE, KY | 01/19/2000
EDMONDS, DOROTHY A, BATON ROUGE, LA | 01/19/2000
FERGUSON, RUTH, WICHITA, KS | 01/19/2000
FLETCHER, JOHN D JR, CHARLESTON, SC | 03/08/1900
GORDON, ALICE J, MARIANNA, FL | 01/19/2000
HELLYER, DANIEL, MALTA, MT | 01/19/2000
HOFFMAN, JAYNE, LAWRENCEVILLE, GA | 01/19/2000
HOFFMAN, MARK D, LAWRENCEVILLE, GA | 01/19/2000
JOSEPH, MORGAN, MOUSIE, KY | 01/19/2000
JUDGE, DANIEL BARKSDALE, RIVERSIDE, CA | 01/19/2000
LOFTON, BARBARA P, VESTAVIA HILLS, AL | 01/19/2000
NEAL, ROY GLENN, IRVINE, KY | 01/19/2000
NEAL, BESSIE, IRVINE, KY | 01/19/2000
PETERSON, CHERYL, LINCOLN, NE | 01/19/2000
REGINS, KATHRYN S, BATON ROUGE, LA | 01/19/2000
SHACK, CAESAR SALANTO, JACKSONVILLE, FL | 01/19/2000
WIEMAN, WILLIAM, GRAHAM, WA | 01/19/2000
YANG, ROBERT CHANG-CHUN JR, LAND O'LAKES, FL | 01/19/2000
FELONY CONTROL SUBSTANCE CONVICTION:
SLACK, JUDITH A., LONGMONT, CO | 01/19/2000
PATIENT ABUSE/NEGLECT CONVICTIONS:
BAKER, GARY J, ANCHORAGE, AK | 01/19/2000
BORER, STEPHANIE M, BUCYRUS, OH | 01/19/2000
COLELLO, NATALIE D, PROVIDENCE, RI | 01/19/2000
COLEMAN, SALLIE B, SALUDA, SC | 01/19/2000
ELLYSON, REBEKKA ANN, CHICO, CA | 01/19/2000
JONES, CHRISTIE, BLACKVILLE, SC | 01/19/2000
KHAFAGA, MERVAT, CLEVELAND, OH | 01/19/2000
MERCHANT, DAVID L, WINDSOR, VT | 01/19/2000
OGUNDAPO, VANESSA I, CLEVELAND, OH | 01/19/2000
ROGERS, ROY, SANTA MONICA, CA | 01/19/2000
WILLIAMS, JACKSON, SYRACUSE, NY | 01/19/2000
WOODS, WENDY L, CLEVELAND, OH | 01/19/2000
YOUNG, NORD LEVERNE, SAN FRANCISCO, CA | 01/19/2000
CONVICTION FOR HEALTH CARE FRAUD:
NEAVETH, BRANDON RAY, DENVER, CO | 01/19/2000
QUINONES, CATHERINE, ALBURQUERQUE, NM | 01/19/2000
LICENSE REVOCATION/SUSPENSION/SURRENDERED:
ABNEY, LINDA A, COLUMBIA, SC | 01/19/2000
ADLER, ROGER E, JAMES ISLAND, SC | 01/19/2000
ALLMON-RODRIGUEZ, KAREN J, SAN BRUNO, CA | 01/19/2000
ANDERSEN, SUZANNE, NOVATO, CA | 01/19/2000
ANDREWS, CRYSTAL DAWN, SHERMAN, TX | 01/19/2000
APADACA, RAYMOND T, VENTURA, CA | 01/19/2000
BAZEMORE, SHARON T, ELIZABETH CITY, NC | 01/19/2000
BLACKMAN, SANDRA PHILERMENE, HIGHLAND, CA | 01/19/2000
BONA, RANDOLPH J, BROOKLYN CENTER, MN | 01/19/2000
BOWDEN, STEPHEN D, CHICO, CA | 01/19/2000
BRAGG, STEVEN WAYNE, HARVEST, AL | 01/19/2000
BUJAUCIUS, MERRYANN, NEWBURY, VT | 01/19/2000
BYRD, TARESA MAY BRYANT, SPARKMAN, AR | 01/19/2000
CARY, MONTE RAY, KISSIMMEE, FL | 01/19/2000
CLARK, JAMES, NAPA, CA | 01/19/2000
CORROW, CHRISTINE E, LYNDONVILLE, VT | 01/19/2000
COTTER, ANDREA M, ST PAUL, MN | 01/19/2000
EGRES, DEBORAH L, LAKE ORION, MI | 01/19/2000
ELGIN, MELODY LOUISE, TULARE, CA | 01/19/2000
ELSEA, CLARA E, BERRYVILLE, VA | 01/19/2000
GARCIA, ANTON R, HICKORY HILLS, IL | 01/19/2000
GRIFFITH, BONNIE DEAN, ANDERSON, CA | 01/19/2000
HAMMER, MARTHA M, FLINT, MI | 01/19/2000
HARRIS, CLIFTON GORDON III, VISALIA, CA | 01/19/2000
HARRIS, RAMONA GAIL BULTER, UNION GROVE, AL | 01/19/2000
HASTON, JAMES PARKER, HOUSTON, TX | 01/19/2000
HILL, ANNE KATHOLEEN, BIRMINGHAM, AL | 01/19/2000
HOGAN, JAMES T, MOOSE LAKE, MN | 01/19/2000
HOGENSON, LORI A, DIXON, IL | 01/19/2000
IRBY, JAMES H, ANDERSON, SC | 01/19/2000
IRELAND, JULIE K, MONTICELLO, IA | 01/19/2000
JENSEN, CHRISTINE A, MINNEAPOLIS, MN | 01/19/2000
JONES, LINDA D, DES MOINES, IA | 01/19/2000
KAREL, JAN, LEMON GROVE, CA | 01/19/2000
KESTER, KELLIE L, FRIDLEY, MN | 01/19/2000
LABOUNTY, CHRISTOPHER C, DULUTH, MN | 01/19/2000
LAIR, CARL BRUCE, WEATHERFORD, TX | 01/19/2000
LANEY, MELISSA DIANNE MILLER, DECATUR, AL | 01/19/2000
LENART, PAUL J, URBANA, IL | 01/19/2000
LUKE, STEVEN JEROME, OREM, UT | 01/19/2000
MACKINS, WILLIAM E, COLORADO SPNGS, CO | 01/19/2000
MAJOR, VICTORIA ANN, PIEDMONT, CA | 01/19/2000
MARMIE, CANDACE L, LOVELAND, CO | 01/19/2000
MCKEY, LINDA BENGELE, SUFFOLK, VA | 01/19/2000
MEJIA, PHYLLIS A, WAYNESBORO, VA | 01/19/2000
MILLER, ANDREA CAMILLE, POTTSBORO, TX | 01/19/2000
MINER, RENEE L, SAINT JAMES, VT | 01/19/2000
MRAZ, GINA C, MINNEAPOLIS, MN | 01/19/2000
OZENBAUGH, SUSAN, COTTONWOOD, CA | 01/19/2000
PAGE, KIMBERLEE B, AUSTIN, MN | 01/19/2000
PENCE, DEBBIE LYNN, MT VERNON, WA | 01/19/2000
PINAN, ROQUE E, COLCHESTER, VT | 01/19/2000
POLLARD, OLIVIA M, DENVER, CO | 01/19/2000
RICKETSON, GREER HOMER, NASHVILLE, TN | 01/19/2000
RICKS, MELVIN THEODORE, SANTA CLARA, CA | 01/19/2000
RIGSBY, ROBERT E, MAYO, FL | 01/19/2000
ROBINS, KENITH L, PROVO, UT | 01/19/2000
ROGERS, GARY DEAN, HUNTSVILLE, AL | 01/19/2000
SPEEGLE, MICHAEL CLINTON, CULMAN, AL | 01/19/2000
STANFIELD, MARILYN RENEE, TUSCUMBIA, AL | 01/19/2000
STRONG, HELEN, DETROIT, MI | 01/19/2000
SULTZ-ZIKE, DIANE MARCELLA, BAKERFIELD, CA | 01/19/2000
TAYLOR, NELDA JEAN, THORSBY, AL | 01/19/2000
VAN AUKEN, BRUCE P, ORLAND PARK, IL | 01/19/2000
WATSON, CYNTHIA KATHYRN STREET, HOOVER, AL | 01/19/2000
WHITE, PAUL D, SALIDA, CO | 01/19/2000
WOOD, PATSY DEAN, PHENIX CITY, AL | 01/19/2000
WYLIE, MELODY P, MONCRUE, NC | 01/19/2000
FRAUD/KICKBACKS:
FOREST HILLS NEUROPSYCHIATRIC, BELLEVUE, KY | 05/28/1900
OWNED/CONTROLLED BY CONVICTED/EXCLUDED:
COMMUNICARE HOME HEALTH CARE, SAN ANTONIO, TX | 01/19/2000
FLORIDA MOBILE DENTAL, INC, HIALEAH, FL | 01/19/2000
JOMA DIAGNOSTIC, CORP, MIAMI, FL | 01/19/2000
MEDICAL CORPORATION, OAK RIDGE, LA | 01/19/2000
NEURO-VASCULAR INSTITUTE, INC, MIAMI, FL | 01/19/2000
STATEWIDE DENTAL SERVICES, MIAMI, FL | 01/19/2000
SUGAR SHACK AMBULATORY, JACKSONVILLE, FL | 01/19/2000
THE CREST CLINICS OF MIAMI, MIAMI, FL | 01/19/2000
DEFAULT ON HEAL LOAN:
AVEDISSIAN, GREGORY M, WORCESTER, MA | 01/19/2000
CAMPBELL, ROCHELLE S, BATON ROUGE, LA | 01/19/2000
COONTS, JERRY A, EL DORADO SPNGS, MO | 01/19/2000
DAVIS, LARRY L, EL PASO, TX | 01/19/2000
DAWS, MICHAEL R, ENGLEWOOD, CO | 01/19/2000
DEMEHRI, SHERIAR F, LEONARDTOWN, MD | 01/19/2000
DOWER, PATRICK B, NOKOMIS, FL | 01/19/2000
EDWARDS, DOUGLAS R, JONESBORO, GA | 01/19/2000
ENSLEY, DENNIS L, GREAT BEND, KS | 01/19/2000
GUTHRIE, WANDA D, CHARLOTTE, NC | 01/19/2000
KARAKIZIS, DEMETRIOS D, JAMAICA, NY | 01/19/2000
KEMPIS, RICHARD A, SAN FRANCISCO, CA | 01/19/2000
KERSTEIN, GARY R, LOUISVILLE, KY | 01/19/2000
LESTER, ROBERT C, GRAND PRAIRIE, TX | 01/19/2000
MADDOX, JOSEPH T, EVERETT, MA | 01/19/2000
MARTIN, JOSEPH E, MORGAN HILL, CA | 01/19/2000
MEYER, RICHARD D, POWDER SPRINGS, GA | 11/04/1900
PATEL, AVINASH M, MANHATTAN, NY | 01/19/2000
PAULE, LAWRENCE D, TOLLESON, AZ | 01/19/2000
PURYEAR, CHERYLL D, SUGAR LAND, TX | 01/19/2000
RILEY, DAVID C, MILWAUKEE, WI | 01/19/2000
SHEEHAN, MATTHEW E, MEDFORD, OR | 01/19/2000
SMITH, PAMELA R, HIGHLAND, CA | 12/14/1900
STEINFELD, AUDREY G, NORTHRIDGE, CA | 01/19/2000
STRICKLAND, DAVID K, BLACKSBURG, VA | 01/19/2000
TURNQUEST, GREOGRY L, QUINCY, FL | 01/19/2000

Dated: January 12, 2000.
Joanne Lanahan,
Director, Health Care Administrative Sanctions, Office of Inspector General.

[FR Doc. 00-1604 Filed 1-21-00; 8:45 am]

BILLING CODE 4150-04-P